DEPARTMENT OF HEALTH AND HUMAN SERVICES

National Institutes of Health

Center for Scientific Review; Amended Notice of Meeting

Notice is hereby given of a change in the meeting of the Center for Scientific Review Special Emphasis Panel, RFA-EB-21-001 Technology Development to Reduce Health Disparities, May 30, 2025, 09:00 a.m. to May 30, 2025, 04:00 p.m., National Institutes of Health, Rockledge II, 6701 Rockledge Drive, Bethesda, MD 20892 which was published in the Federal Register on May 1, 2025, 90 FR 18693, Doc No. 2025-07594.

This meeting is being amended to change the date of the meeting from May 30, 2025, to July 9, 2025, and the time from 9:00 a.m.-4:00 p.m. to 10:00 a.m.-2:00 p.m. The meeting is closed to the public.

Dated: June 2, 2025.
David W. Freeman,
Supervisory Program Analyst, Office of Federal Advisory Committee Policy.

[FR Doc. 2025-10247 Filed 6-4-25; 8:45 am]

BILLING CODE 4140-01-P